DEPARTMENT OF TRANSPORTATION

Federal Aviation Administration

14 CFR Part 39

[Docket No. FAA-2008-0735; Directorate Identifier 2008-NM-085-AD]

RIN 2120-AA64

Airworthiness Directives; McDonnell Douglas Model DC-10-10, DC-10-10F, DC-10-15, DC-10-30, DC-10-30F (KC-10A and KDC-10), DC-10-40, DC-10-40F, MD-10-10F, MD-10-30F, MD-11, and MD-11F Airplanes

AGENCY: Federal Aviation Administration (FAA), Department of Transportation (DOT).

ACTION: Notice of proposed rulemaking (NPRM).

SUMMARY: The FAA proposes to supersede an existing airworthiness directive (AD) that applies to certain McDonnell Douglas transport category airplanes. The existing AD currently requires modification of the installation wiring for the electric motor-operated auxiliary hydraulic pumps in the right wheel well area of the main landing gear; repetitive inspections of the numbers 1 and 2 electric motors of the auxiliary hydraulic pumps for electrical resistance, continuity, mechanical rotation, and associated airplane wiring resistance/voltage; and corrective actions if necessary. This proposed AD would, for certain airplanes, also require modifying and rerouting, as applicable, certain components of the wiring of the electric motor for the auxiliary hydraulic pump located in the right wheel well. This proposed AD results from reports of failure of the electric motor for the auxiliary hydraulic pump. We are proposing this AD to prevent failure of the electric motors of the hydraulic pump and associated wiring, which could result in fire at the auxiliary hydraulic pump and consequent damage to the adjacent electrical equipment and/or structure.

DATES: We must receive comments on this proposed AD by September 11, 2008.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

For service information identified in this AD, contact Boeing Commercial Airplanes, Long Beach Division, 3855 Lakewood Boulevard, Long Beach, California 90846, Attention: Data and Service Management, Dept. C1-L5A (D800-0024).

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (telephone 800-647-5527) is in the ADDRESSES section. Comments will be available in the AD docket shortly after receipt.

FOR FURTHER INFORMATION CONTACT: Ken Sujishi, Aerospace Engineer, Cabin Safety/Mechanical and Environmental Systems Branch, ANM-150L, FAA, Los Angeles Aircraft Certification Office, 3960 Paramount Boulevard, Lakewood, California 90712-4137; telephone (562) 627-5353; fax (562) 627-5210.

SUPPLEMENTARY INFORMATION:

Comments Invited

We invite you to send any written relevant data, views, or arguments about this proposed AD. Send your comments to an address listed under the ADDRESSES section. Include “Docket No. FAA-2008-0735; Directorate Identifier 2008-NM-085-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

On February 26, 2004, we issued AD 2004-05-20, amendment 39-13515 (69 FR 11504, March 11, 2004), for certain McDonnell Douglas Model DC-10-10, DC-10-10F, DC-10-15, DC-10-30, DC-10-30F (KC-10A and KDC-10), DC-10-40, DC-10-40F, MD-10-10F, MD-10-30F, MD-11, and MD-11F airplanes. That AD requires modification of the installation wiring for the electric motor-operated auxiliary hydraulic pumps in the right wheel well area of the main landing gear, and repetitive inspections of the numbers 1 and 2 electric motors of the auxiliary hydraulic pumps for electrical resistance, continuity, mechanical rotation, and associated airplane wiring resistance/voltage; and corrective actions if necessary. That AD resulted from several reports of failure of the auxiliary hydraulic pump systems on Model DC-10 airplanes. We issued that AD to prevent failure of the electric motors of the hydraulic pump and associated wiring, which could result in fire at the auxiliary hydraulic pump and consequent damage to the adjacent electrical equipment and/or structure.

Actions Since Existing AD Was Issued

Since we issued AD 2004-05-20, we have determined that the actions specified in Boeing Alert Service Bulletin DC10-29A144, Revision 2, dated August 1, 2003, do not completely resolve the unsafe condition for Model DC-10-10, DC-10-10F, DC-10-15, DC-10-30, DC-10-30F (KC-10A and KDC-10), DC-10-40, and DC-10-40F airplanes. (We referred to that service bulletin in AD 2004-05-20 as the appropriate source of service information for modifying the installation wiring of the electric motor-operated auxiliary hydraulic pumps in the right wheel well area of the main landing gear for the airplanes listed above and for Model MD-10-10F and MD-10-30F airplanes.) Boeing has now issued new service information, described below, that includes revised procedures to resolve the unsafe condition for Model DC-10-10, DC-10-10F, DC-10-15, DC-10-30, DC-10-30F (KC-10A and KDC-10), DC-10-40, and DC-10-40F airplanes.

Relevant Service Information

We have reviewed Boeing Alert Service Bulletin DC10-29A148, dated March 20, 2008, for certain McDonnell Douglas Model DC-10-10, DC-10-10F, DC-10-15, DC-10-30, DC-10-30F (KC-10A and KDC-10), DC-10-40, and DC-10-40F airplanes. The service bulletin describes procedures for modifying and rerouting, as applicable, certain components of the wiring of the electric motor for the auxiliary hydraulic pump located in the right main landing gear wheel well.

The rerouting involves relocating bracket assemblies to meet certain specified dimensions, or rerouting the brake pressure sensor wire assembly, as applicable.

The modification includes various installations, and investigative (inspections, checks) and corrective actions, as applicable. The installations and the investigative and corrective actions are described below:

• Installing a new support assembly, new nut clips, and new bracket assemblies.

• Inspecting the wire insulation for cracks, splits or tears, and for evidence of wire chafing.

• Replacing wires if necessary.

• Installing protective sleeving.

• Checking the resistance of the electric motor ground wires, and corrective action if the resistance is not within the specified measurement. The corrective action for incorrect resistance involves checking the electrical bond surface; inspecting wires for cracks, damage, corrosion, or cross connection; checking sockets and lugs for proper crimp and ground studs for proper torque; and replacing the wire, socket, lug, and ground stud if necessary.

We have also reviewed Boeing Alert Service Bulletin DC10-29A142, Revision 3, dated October 15, 2005, for McDonnell Douglas Model DC-10-10, DC-10-10F, DC-10-15, DC-10-30, DC-10-30F (KC-10A and KDC-10), DC-10-40, DC-10-40F, MD-10-10F, and MD-10-30F airplanes. We referred to Boeing Alert Service Bulletin DC10-29A142, Revision 02, dated April 17, 2003, in AD 2004-05-20 as the appropriate source of service information for doing prior/concurrent actions. The procedures in Revision 3 are essentially the same as those in Revision 02, with editorial changes that do not affect how the actions are done.

Accomplishing the actions specified in the service information is intended to adequately address the unsafe condition.

FAA's Determination and Requirements of the Proposed AD

We have evaluated all pertinent information and identified an unsafe condition that is likely to develop on other airplanes of the same type design. For this reason, we are proposing this AD, which would supersede AD 2004-05-20, and would retain the requirements of the existing AD. This proposed AD would also require accomplishing the actions specified in Boeing Alert Service Bulletin DC10-29A148 for Model DC-10-10, DC-10-10F, DC-10-15, DC-10-30, DC-10-30F (KC-10A and KDC-10), DC-10-40, and DC-10-40F airplanes.

Change to Existing AD

This proposed AD would retain all requirements of AD 2004-05-20. Since AD 2004-05-20 was issued, the AD format has been revised, and certain paragraphs have been rearranged. As a result, the corresponding paragraph identifiers have changed in this proposed AD, as listed in the following table:

Revised Paragraph Identifiers
Requirement in AD 2004-05-20 | Corresponding requirement in this proposed AD
Paragraph (a) | Paragraph (f).
Paragraph (b) | Paragraph (g).

Costs of Compliance

There are about 409 airplanes of the affected design in the worldwide fleet. The following table provides the estimated costs for U.S. operators to comply with this proposed AD.

Estimated Costs
Action | Work hours | Average labor rate per hour | Parts | Cost per airplane | Number of U.S.- registered airplanes | Fleet cost
Modification (required by AD 2004-05-20) | 9 | $80 | $4,886 to $7,920 | $5,606 to $8,640 | 322 | $1,805,132 to $2,782,080.
Inspection (required by AD 2004-05-20) | 1 | 80 | $0 | $80, per inspection cycle | 322 | $25,760, per inspection cycle.
Modification/rerouting (new proposed action) | 2 to 18 | 80 | $5,380 to $5,872 | $5,540 to $7,312 | 128 | $709,120 to $935,936.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-13515 (69 FR 11504, March 11, 2004) and adding the following new airworthiness directive (AD):

McDonnell Douglas: Docket No. FAA-2008-0735; Directorate Identifier 2008-NM-085-AD.

Comments Due Date

(a) The FAA must receive comments on this AD action by September 11, 2008.

Affected ADs

(b) This AD supersedes AD 2004-05-20.

Applicability

(c) This AD applies to McDonnell Douglas Model DC-10-10, DC-10-10F, DC-10-15, DC-10-30, DC-10-30F (KC-10A and KDC-10), DC-10-40, DC-10-40F, MD-10-10F, MD-10-30F, MD-11, and MD-11F airplanes; certificated in any category; as identified in the applicable service bulletin listed in Table 1 of this AD.

Table 1.—Airplanes Affected by This AD
McDonnell Douglas model— | Identified in— | Referenced in—
DC-10-10, DC-10-10F, DC-10-15, DC-10-30, DC-10-30F (KC-10A and KDC-10), DC-10-40, DC-10-40F, MD-10-10F, and MD-10-30F airplanes | Boeing Alert Service Bulletin DC10-29A144, Revision 2, dated August 1, 2003 | Paragraph (f) of this AD.
MD-11 and MD-11F airplanes | Boeing Alert Service Bulletin MD11-29A059, Revision 2, dated August 1, 2003 | Paragraph (g) of this AD.
DC-10-10, DC-10-10F, DC-10-15, DC-10-30, DC-10-30F (KC-10A and KDC-10), DC-10-40, and DC-10-40F airplanes | Boeing Alert Service Bulletin DC10-29A148, dated March 20, 2008 | Paragraph (h) of this AD.

Unsafe Condition

(d) This AD results from reports of failure of the electric motor for the auxiliary hydraulic pump. We are issuing this AD to prevent failure of the electric motors of the hydraulic pump and associated wiring, which could result in fire at the auxiliary hydraulic pump and consequent damage to the adjacent electrical equipment and/or structure.

Compliance

(e) You are responsible for having the actions required by this AD performed within the compliance times specified, unless the actions have already been done.

Restatement of the Requirements of AD 2004-05-20

Modification/Prior or Concurrent Actions

(f) For Model DC-10-10, DC-10-10F, DC-10-15, DC-10-30, DC-10-30F (KC-10A and KDC-10), DC-10-40, DC-10-40F, MD-10-10F, and MD-10-30F airplanes listed in Boeing Alert Service Bulletin DC10-29A144, Revision 2, dated August 1, 2003: Within 18 months after April 15, 2004 (the effective date of AD 2004-05-20), do the actions specified in paragraphs (f)(1) and (f)(2) of this AD.

(1) Modify the installation wiring of the electric motor operated auxiliary hydraulic pumps in the right wheel well area of the main landing gear (MLG) (including removing existing clamps, ground wires, if required, and sleeving from the wire assemblies; inspecting for cracks and chafing, installing new support bracket, clips, and bracket assemblies, as applicable; installing sleeving; re-routing and attaching wire assemblies using new clamps and attachments; installing an additional routing clip on the lower bracket of the fuel motor control valve, if applicable; and doing a voltage check and a functional test), per the Accomplishment Instructions of Boeing Alert Service Bulletin DC10-29A144, Revision 2, dated August 1, 2003.

(2) Prior to or concurrently with accomplishment of paragraph (f)(1) or (h) of this AD: Do the actions specified in Boeing Alert Service Bulletin DC10-29A142, Revision 02, dated April 17, 2003; or Revision 3, dated October 15, 2005; (including inspecting the numbers 1 and 2 electric motors of the auxiliary hydraulic pumps for electrical resistance, continuity, mechanical rotation, and associated airplane wiring resistance/voltage; and replacing the auxiliary hydraulic pump with a serviceable pump and repairing the wiring if necessary), per the Accomplishment Instructions of the service bulletin. Repeat the actions after that at intervals not to exceed 2,500 flight hours. After the effective date of this AD, Revision 3 must be used.

(g) For Model MD-11 and MD-11F airplanes listed in Boeing Alert Service Bulletin MD11-29A059, Revision 2, dated August 1, 2003: Within 18 months after April 15, 2004, do the actions specified in paragraphs (g)(1) and (g)(2) of this AD.

(1) Modify the installation wiring of the electric motor auxiliary hydraulic pumps in the wheel well area of the right MLG (including removing and retaining wire assembly clamps, if applicable; retaining the existing ground wire assemblies; retaining or replacing all other wire assemblies for both connectors; installing spiral wrap and sleeving; wrapping upper ends of individual wires with tape; installing new support bracket assemblies, if applicable; re-routing and attaching wire assemblies using new clamps and attachments, if applicable; and doing a voltage check and a functional test), per the Accomplishment Instructions of Boeing Alert Service Bulletin MD11-29A059, Revision 2, dated August 1, 2003.

(2) Prior to or concurrently with accomplishment of paragraph (g)(1) of this AD: Do the actions specified in Boeing Alert Service Bulletin MD11-29A057, Revision 02, dated April 17, 2003 (including inspecting the numbers 1 and 2 electric motors of the auxiliary hydraulic pumps for electrical resistance, continuity, mechanical rotation, and associated airplane wiring resistance/voltage; and replacing the auxiliary hydraulic pump with a serviceable pump and repairing the wiring if necessary), per the Accomplishment Instructions of the service bulletin. Repeat the actions after that at intervals not to exceed 2,500 flight hours.

New Requirements of This AD

Modification and Rerouting

(h) For Model DC-10-10, DC-10-10F, DC-10-15, DC-10-30, DC-10-30F (KC-10A and KDC-10), DC-10-40, and DC-10-40F airplanes identified in Boeing Alert Service Bulletin DC10-29A148, dated March 20, 2008: Within 24 months after the effective date of this AD, modify and reroute, as applicable, components of the wiring of the electric motor for the auxiliary hydraulic pump located in the right wheel well, and do all applicable investigative and corrective actions before further flight. Do all actions in accordance with the Accomplishment Instructions of Boeing Alert Service Bulletin DC10-29A148, dated March 20, 2008. The concurrent requirements, including the repetitive inspections, of paragraph (f)(2) of this AD continue to apply to these airplanes.

Alternative Methods of Compliance (AMOCs)

(i)(1) The Manager, Los Angeles Aircraft Certification Office (ACO), FAA, has the authority to approve AMOCs for this AD, if requested in accordance with the procedures found in 14 CFR 39.19.

(2) To request a different method of compliance or a different compliance time for this AD, follow the procedures in 14 CFR 39.19. Before using any approved AMOC on any airplane to which the AMOC applies, notify your appropriate principal inspector (PI) in the FAA Flight Standards District Office (FSDO), or lacking a PI, your local FSDO.

Issued in Renton, Washington, on July 21, 2008.
Ali Bahrami,
Manager, Transport Airplane Directorate, Aircraft Certification Service.

[FR Doc. E8-17198 Filed 7-25-08; 8:45 am]

BILLING CODE 4910-13-P